DEPARTMENT OF COMMERCE

International Trade Administration

[A-357-804]

Revocation of Antidumping Duty Order: Silicon Metal From Argentina

AGENCY: Import Administration, International Trade Administration, Department of Commerce.

ACTION: Notice of revocation of antidumping duty order: silicon metal from Argentina.

SUMMARY: Pursuant to section 751(c) of the Tariff Act of 1930, as amended (“the Act”), the United States International Trade Commission (“the Commission”) determined that revocation of the antidumping duty order on silicon metal from Argentina is not likely to lead to continuation or recurrence of material injury to an industry in the United States within a reasonably foreseeable time (66 FR 8981 (February 5, 2001)). Therefore, pursuant to section 751(d)(2) of the Act and 19 CFR 351.222(i)(1), the Department of Commerce (“the Department”) is revoking the antidumping duty order on silicon metal from Argentina. Pursuant to section 751(c)(6)(A)(iv) of the Act and 19 CFR 351.222(i)(2)(ii) the effective date of revocation is January 1, 2000.

FOR FURTHER INFORMATION CONTACT: Martha V. Douthit or James P. Maeder, Office of Policy for Import Administration, International Trade Administration, U.S. Department of Commerce, 14th Street and Constitution Ave., NW, Washington, DC 20230; telephone: (202) 482-5050 or (202) 482-3330, respectively.

EFFECTIVE DATE: January 1, 2000.

Background

On November 2, 1999, the Department initiated (64 FR 59160), and the Commission instituted (64 FR 59209), a sunset review of the antidumping duty order on silicon metal from Argentina, pursuant to section 751(c) of the Act. As a result of its review, the Department found that revocation of the antidumping duty order on silicon metal from Argentina would likely lead to continuation or recurrence of dumping, and notified the Commission of the magnitude of the margin likely to prevail were the antidumping duty order revoked. See Silicon Metal From Argentina; Final Results of Expedited Sunset Review of Antidumping Duty Order, 65 FR 35608 (June 5, 2000).

On February 5, 2001, the Commission determined, pursuant to section 751(c) of the Act, that revocation of the antidumping duty order on silicon metal from Argentina would not likely lead to continuation or recurrence of material injury to an industry in the United States within a reasonably foreseeable time. See Silicon Metal From Argentina, 66 FR 8981 (February 5, 2001), and USITC Pub. 3385, (January 2001), Investigations Nos. 731-TA-470-472 (Review).

Scope

The merchandise subject to this antidumping duty order is silicon metal containing at least 96.00 percent, but less than 99.99 percent of silicon by weight. Also subject to this order is silicon metal containing between 89.00 and 96.00 percent silicon by weight but which contains a higher aluminum content than the silicon metal containing at least 96.00 percent but less than 99.99 percent silicon by weight (65 FR 5311, February 3, 2000). Silicon metal is currently provided under subheadings 2804.69.10 and 2804.69.50 of the Harmonized Tariff Schedule (“HTS”) as a chemical product, but is commonly referred to as a metal. Semiconductor-grade silicon (silicon metal containing by weight not less than 99.99 percent of silicon is provided under subheading 2804.61.00 of the HTS is not subject to this antidumping duty order. Although the HTS numbers are provided for convenience and customs purposes, the written description remains dispositive.

Determination

As a result of the determination by the Commission that revocation of this antidumping duty order is not likely to lead to continuation or recurrence of material injury to an industry in the United States, the Department, pursuant to section 751(d)(2) of the Act and 19 CFR 351.222(i)(1), is revoking the antidumping duty order on silicon metal from Argentina.

Pursuant to section 751(c)(6)(A)(iv) of the Act and 19 CFR 351.222(i)(2)(ii), this revocation is effective January 1, 2000. The Department will instruct the Customs Service to discontinue the suspension of liquidation and collection of cash deposit rates on entries of the subject merchandise entered or withdrawn from warehouse on or after January 1, 2000 (the effective date). The Department will complete any pending administrative reviews of this order and will conduct administrative reviews of subject merchandise entered prior to the effective date of revocation in response to appropriately filed requests for review.

This notice is published pursuant to section 703(c)(2) of the Act. Effective January 20, 2001, Bernard T. Carreau is fulfilling the duties of the Assistant Secretary for Import Administration.

Dated: February 12, 2001.
Bernard T. Carreau,
Deputy Assistant Secretary, AD/CVD Enforcement II.

[FR Doc. 01-4022 Filed 2-15-01; 8:45 am]

BILLING CODE 3510-DS-P